FEDERAL DEPOSIT INSURANCE CORPORATION

Notice of Meeting Held With Less Than Seven Days Advance Notice

TIME AND DATE: 10:00 a.m. on June 20, 2024.

PLACE: The meeting was held in the FDIC Board Room, 550 17th Street NW, Washington, DC, and was webcast to the public.

MATTERS TO BE CONSIDERED: Pursuant to the provisions of the “Government in the Sunshine Act” (5 U.S.C. 552b), notice is hereby given that the Federal Deposit Insurance Corporation's Board of Directors met in open session at 10:00 a.m. on Thursday, June 20, 2024, to consider the following matters:

Summary Agenda

Memorandum and resolution re: Proposed Amendments to Bank Secrecy Act Compliance Rule (12 CFR part 326).

Memorandum and resolution re: Final Rule: Quality Control Standards for Automated Valuation Models.

Memorandum and resolution re: Review of FDIC Regulations in Accordance with the Economic Growth and Regulatory Paperwork Reduction Act (EGRPRA).

Disposition of Minutes of a Board of Directors' Meeting Previously Distributed.

Summary reports, status reports, and reports of actions taken pursuant to authority delegated by the Board of Directors.

Discussion Agenda

Memorandum and resolution re: Final Rule to Revise 12 CFR 360.10 and Associated Delegations of Authority.

Memorandum and resolution re: Board Briefings on Certain Merger and Deposit Insurance Applications Outstanding for More Than 270 Days.

CONTACT PERSON FOR MORE INFORMATION: Direct requests for further information concerning the meeting to Debra A. Decker, Executive Secretary of the Corporation, at 202-898-8748.

Authority: 5 U.S.C. 552b.

Dated at Washington, DC, on June 20, 2024.
Federal Deposit Insurance Corporation.
James P. Sheesley,
Assistant Executive Secretary.

[FR Doc. 2024-13950 Filed 6-25-24; 8:45 am]

BILLING CODE 6714-01-P